NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure (#10719).

Date/Time: May 14, 2001, 8:30 am-4:30 pm.

Place: National Science Foundation, 4201 Wilson Blvd., Room 1235, Arlington, VA.

Type of Meeting: Open.

Contact Person: Dr. Richard Hilderbrandt, Program Director, Division of Advanced Computational Infrastructure and Research, Suite 1122, National Science Foundation, 4201 Wilson Blvd., Arlington, VA 22230 (703) 306-1963.

Purpose of Meeting: The Advisory Committee will be strictly advisory and will prepare a report to the National Science Foundation concerning the broad topic of advanced cyberinfrastructure and the existing Partnerships for Advanced Computational infrastructure.

Agenda: Tentative

8:30—12:00.

1. Introductions of members and staff.

2. Review and discussion of agenda.

3. Background on the formation of the panel.

4. Review and discussion of the formal charge.

12:00 1:00 Lunch

1:00—5:00

5. Information gathering requirements and how to conduct them.

6. Schedule and format of the Panel's operation.

7. Review of next steps and assignments for various members.

8. Open discussion.

Dated: April 24, 2001.
Susanne Bolton,
Committee Management Officer.

[FR Doc. 01-10560 Filed 4-26-01; 8:45 am]

BILLING CODE 7555-01-M